FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the notices are set forth in paragraph 7 of the Act (12 U.S.C. 1817(j)(7)).

The applications listed below, as well as other related filings required by the Board, are available for immediate inspection at the Federal Reserve Bank indicated. The applications will also be available for inspection at the offices of the Board of Governors. Interested persons may express their views in writing on the standards enumerated in paragraph 7 of the Act.

Comments regarding each of these applications must be received at the Reserve Bank indicated or the offices of the Board of Governors, Ann E. Misback, Secretary of the Board, 20th and Constitution Avenue NW, Washington DC 20551-0001, not later than October 9, 2019.

A. Federal Reserve Bank of Kansas City (Dennis Denney, Assistant Vice President) 1 Memorial Drive, Kansas City, Missouri 64198-0001:

1. Michael S. Wright, individually and as trustee of the E&N-AMG National Trust Bank Irrevocable Trust; and the NSW-AMG National Trust Bank Irrevocable Trust, all in Castle Pines, Colorado; to retain voting shares of AMG National Corp., Greenwood Village, Colorado, parent of AMG National Trust Bank, Boulder, Colorado; and to become members of the Wright Family Group which controls AMG National Corp.

2. Theodore L. Starr, Hiawatha, Kansas; and Randolph W. Starr, Loveland, Colorado; to retain voting shares of Crossdale, Inc., and thereby indirectly acquire shares of Citizens State Bank & Trust Company, both in Hiawatha, Kansas.

Board of Governors of the Federal Reserve System, September 19, 2019.
Yao-Chin Chao,
Assistant Secretary of the Board.

[FR Doc. 2019-20737 Filed 9-24-19; 8:45 am]

BILLING CODE P